NUCLEAR REGULATORY COMMISSION

Advisory Committee on Reactor Safeguards Meeting of the ACRS Subcommittee; Notice of Meeting

The ACRS Subcommittee on Plant Operations & Fire Protection will hold a meeting on July 24, 2007, at the U.S. NRC Region III, 2443 Warrenville Road, Lisle, IL.

The entire meeting will be open to public attendance.

The agenda for the subject meeting shall be as follows:

Thursday July 24, 2008—8:30 a.m.-2:30 p.m.

The Subcommittee and Region III will discuss implementation of significant safety issues and programs.

Members of the public desiring to provide oral statements and/or written comments should notify the Designated Federal Official, Ms. Maitri Banerjee (telephone 301-415-6973) five days prior to the meeting, if possible, so that appropriate arrangements can be made. Electronic recordings will be permitted.

Further information regarding this meeting can be obtained by contacting the Designated Federal Official between 6:45 a.m. and 3:30 p.m. (ET). Persons planning to attend this meeting are urged to contact the above named individual at least two working days prior to the meeting to be advised of any potential changes to the agenda.

Dated: July 2, 2008.
Christopher L. Brown,
Acting Branch Chief, ACRS.

[FR Doc. E8-15691 Filed 7-9-08; 8:45 am]

BILLING CODE 7590-01-P